COMMODITY FUTURES TRADING COMMISSION

Sunshine Act Meeting

Agency Holding the Meeting: Commodity Futures Trading Commission

Federal Register Citation of Previous Announcement: 70 FR 194.

Previously Announced Time and Date of the Meeting: 11 a.m., Wednesday, October 26, 2005.

Changes in the Meeting: The Rule Enforcement Review has been moved to Friday, October 28, 2005, at 11:45 a.m.

Contact Person For More Information: Jean A. Webb, (202) 418-5100.

Jean A. Webb,
Secretary of the Commission.

[FR Doc. 05-21319 Filed 10-20-05; 2:24 pm]

BILLING CODE 6351-01-M